GENERAL SERVICES ADMINISTRATION

[OMB Control No. 3090-0163; Docket No. 2020-0001; Sequence No. 11]

Information Collection; General Services Acquisition Regulation; Information Specific to a Contract or Contracting Action (Not Required by Regulation)

AGENCY: Office of Acquisition Policy, General Services Administration (GSA).

ACTION: Notice of request for public comments regarding an extension to an existing OMB information collection.

SUMMARY: Under the provisions of the Paperwork Reduction Act, the Regulatory Secretariat Division will be submitting to the Office of Management and Budget (OMB) a request to review and approve an extension of a previously approved information collection requirement regarding information specific to a contract or contracting action that is not required by regulation.

DATES: Submit comments on or before: December 4, 2020.

ADDRESSES: Submit comments identified by Information Collection 3090-0163, Information Specific to a Contract or Contracting Action (Not Required by Regulation), via http://www.regulations.gov. Submit comments via the Federal eRulemaking portal by searching the OMB control number 3090-0163. Select the link “Comment Now” that corresponds with “Information Collection 3090-0163, Information Specific to a Contract or Contracting Action (Not Required by Regulation)”. Follow the instructions provided on the screen. Please include your name, company name (if any), and “Information Collection 3090-0163, Information Specific to a Contract or Contracting Action (Not Required by Regulation),” on your attached document.

Instructions: Please submit comments only and cite Information Collection 3090-0163, Information Specific to a Contract or Contracting Action (Not Required by Regulation), in all correspondence related to this collection. Comments received generally will be posted without change to regulations.gov, including any personal and/or business confidential information provided. To confirm receipt of your comment(s), please check regulations.gov, approximately two-to-three days after submission to verify posting.

FOR FURTHER INFORMATION CONTACT: Mr. Clarence Harrison, Procurement Analyst, GSA Acquisition Policy Division, at telephone 202-227-7051 or email GSARPolicy@gsa.gov.

SUPPLEMENTARY INFORMATION:

A. Purpose

GSA has various mission responsibilities related to the acquisition and provision of supplies, transportation, information technology, telecommunications, real property management, and disposal of real and personal property. These mission responsibilities generate requirements that are realized through the solicitation and award of public contracts.

Most GSA procurement-related information collections are required by the Federal Acquisition Regulation (FAR) or General Services Administration Acquisition Regulation (GSAR); each clause requiring such a collection must be individually approved by OMB. However, some solicitations require contractors to submit information specific to that contracting action, such as information needed to evaluate offers (e.g. specific instructions for technical and price proposals, references for past performance) or data used to administer resulting contracts (e.g. project management plans).

This information collection is currently associated with GSA's information collection requirements contained in solicitations issued in accordance with the Uniform Contract Format under FAR Part 14, Sealed Bidding (see GSAR 514.201-1); FAR Part 15, Contracting by Negotiation (see GSAR 552.215-73); and solicitations under FAR Part 12, Acquisition of Commercial Items (see GSAR 512.301). This includes information collection requirements found in GSA Federal Supply Schedule (FSS) solicitations.

B. Annual Reporting Burden

Respondents: 2,597,377.

Responses per Respondent: 1.

Total Responses: 2,597,377.

Hours per Response: .40.

Total Burden Hours: 1,038,950.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street, Washington, DC 20405, telephone 202-501-4755. Please cite OMB Control No. 3090-0163, Information Specific to a Contract or Contracting Action (Not Required by Regulation), in all correspondence.

Jeffrey A. Koses,
Senior Procurement Executive, Office of Acquisition Policy, Office of Government-wide Policy.

[FR Doc. 2020-21982 Filed 10-2-20; 8:45 am]

BILLING CODE 6820-61-P